DEPARTMENT OF TRANSPORTATION

Federal Aviation Administration

14 CFR Parts 401, 404, and 413

[Amendment No. 401-3, 404-2, 413-5]

Commercial Space Transportation; Licensing Regulations

AGENCY: Federal Aviation Administration (FAA), DOT.

ACTION: Final rule; technical amendment.

SUMMARY: The FAA is amending its commercial space transportation regulations to update an address and certain job titles, to accurately reflect the current organization of the regulations, and to delete some non-essential information. These administrative changes are necessary to keep our regulations clear, accurate, and current. The intended effect is to make our regulations easier for the public and regulated industry to use.

DATES: This rule is effective on June 13, 2003.

FOR FURTHER INFORMATION CONTACT: Charles Huet, Office of Commercial Space Transportation, 800 Independence Avenue, Washington, DC 20591; telephone (202) 385-4659.

SUPPLEMENTARY INFORMATION: The FAA is making some technical or administrative changes to its commercial space transportation regulations. These changes do not affect the substance of the existing regulations, impose no new requirements, and have no impact on activities carried out under the regulations.

The Secretary of Transportation has delegated commercial space licensing authority, which had previously been a function within the Office of the Secretary, to the Federal Aviation Administration. As a result, the address of the Office of Commercial Space Transportation changed. The title of the head of the office changed. Also, the official who designates a legal officer for a regulatory hearing changed. Today's amendments reflect these changes.

The Commercial Space Act of 1998 (Pub. L. 105-303) expanded the jurisdiction of the Office of Commercial Space Transportation. In addition to its previous responsibility, the office now licenses launch of a reusable launch vehicle, operation of a reentry site, and reentry of a reentry vehicle. Previously, the FAA amended the regulations to add parts addressing these areas. The FAA is now amending 14 CFR 413.1 by adding a chart that guides the applicant to the appropriate part.

Procedural Matters

Under the Administrative Procedure Act (APA), 5 U.S.C. 553, agencies must generally publish regulations for public comment and give the public at least 30 days notice before adopting regulations. There is an exception to these requirements if the agency for good cause finds that notice and public procedure are impracticable, unnecessary, or contrary to the public interest. In this case, the FAA finds that notice and comment requirements are unnecessary due to the administrative nature of the changes. The changes do not affect the rights or obligations of any regulated entity. It is in the public interest that the changes take effect promptly.

List of Subjects

14 CFR Part 401

Organization and functions (Government agencies), Space transportation and exploration.

14 CFR Part 404

Administrative practice and procedure, Space transportation and exploration.

14 CFR Part 413

Confidential business information, Space transportation and exploration.

The Amendment

In consideration of the foregoing, the Federal Aviation Administration amends Chapter I of Title 14, Code of Federal Regulations as follows:

PART 401—ORGANIZATION AND DEFINITIONS

1. The authority citation for part 401 continues to read as follows:

Authority: 49 U.S.C. 70101-70121.

2. Revise § 401.1 to read as follows:

§ 401.1 The Office of Commercial Space Transportation.

The Office of Commercial Space Transportation, referred to in these regulations as the “Office,” is a line of business within the Federal Aviation Administration and is located in the Federal Aviation Administration Headquarters, 800 Independence Avenue, SW., Room 331, Washington, DC 20591.

§ 401.3 [Amended]

3. Amend § 401.3 by removing the words “a Director” and adding in its place the words “an Associate Administrator”.

PART 404—REGULATIONS AND LICENSING REQUIREMENTS

4. The authority citation for part 404 continues to read as follows:

Authority: 49 U.S.C. 70101-70121.

§§ 404.3, 404.5, 404.11, 404.13, 404.17, and 404.19 [Amended]

5. In 14 CFR part 404, remove the word “Director” and add, in its place, the words “Associate Administrator” in the following places:

a. Section 404.3(c);

b. Section 404.5;

c. Section 404.11;

d. Section 404.13;

e. Section 404.17; and

f. Section 404.19(b).

6. Revise the second sentence of § 404.19(b) to read as follows:

§ 404.19 Hearings.

* * * * *

(b) * * * The FAA Chief Counsel designates a legal officer for the hearing.

PART 413—LICENSE APPLICATION PROCEDURES

7. The authority citation for part 413 continues to read as follows:

Authority: 49 U.S.C. 70101-70121.

8. Revise § 413.1 to read as follows:

§ 413.1 Scope.

(a) This part prescribes the procedures applicable to applications submitted under this chapter to conduct licensed activities. These procedures apply to all applications for issuance of a license, transfer of an existing license, and renewal of an existing license.

(b) Use the following table to locate specific requirements:

Subject | Part
(1) Launch License | 415
(2) License to Operate a Launch Site | 420
(3) Launch and Reentry of a Reusable Launch Vehicle (RLV) | 431
(4) License to Operate a Reentry Site | 433
(5) Reentry of a Reentry Vehicle other than a Reusable Launch Vehicle (RLV) | 435

Issued in Washington, DC, on June 10, 2003.
Donald P. Byrne,
Assistant Chief Counsel, Regulations Division.

[FR Doc. 03-14995 Filed 6-12-03; 8:45 am]

BILLING CODE 4910-13-P